ENVIRONMENTAL PROTECTION AGENCY

[FRL-8304-7]

Meeting of the Ozone Transport Commission

AGENCY: Environmental Protection Agency.

ACTION: Notice of meeting.

SUMMARY: The United States Environmental Protection Agency is announcing the 2007 Annual Meeting of the Ozone Transport Commission (OTC). This OTC meeting will explore options available for reducing ground-level ozone precursors in a multi-pollutant context.

DATES: The meeting will be held on June 6-7, 2007 starting at 9 a.m. and ending at 5 p.m.

ADDRESSES: Renaissance Providence Hotel, 5 Avenue of the Arts, Providence, Rhode Island 02903; (800) 617-2893.

FOR FURTHER INFORMATION CONTACT: Questions regarding the agenda and registration for this meeting and all press inquiries should be directed to Kromeklia Bryant, Ozone Transport Commission/MANE-VU Office, 444 North Capitol Street, NW., Suite 638, Washington, DC 20001; (202) 508-3840; e-mail: ozone@otcair.org; Web site: http://www.otcair.org.

SUPPLEMENTARY INFORMATION: The Clean Air Act Amendments of 1990 contain at Section 184 provisions for the “Control of Interstate Ozone Air Pollution.” Section 184(a) establishes an “Ozone Transport Region” (OTR) comprised of the States of Connecticut, Delaware, Maine, Maryland, Massachusetts, New Hampshire, New Jersey, New York, Pennsylvania, Rhode Island, Vermont, parts of Virginia and the District of Columbia. The purpose of the Ozone Transport Commission is to deal with ground-level ozone formation, transport, and control within the OTR.

Type of Meeting: Open.

Agenda: Copies of the final agenda will be available from the OTC office (202) 508-3840; by e-mail: ozone@otcair.org or via the OTC Web site at http://www.otcair.org.

Dated: April 17, 2007.
Donald S. Welsh,
Regional Administrator, Region III.

[FR Doc. E7-7898 Filed 4-24-07; 8:45 am]

BILLING CODE 6560-50-P